ENVIRONMENTAL PROTECTION AGENCY

40 CFR Part 52

[NC-107-200338(b); FRL-7558-1]

Approval and Promulgation of Implementation Plans; North Carolina: Mecklenburg-Union Transportation Conformity Interagency Memorandum of Agreement

AGENCY: Environmental Protection Agency (EPA).

ACTION: Proposed rule.

SUMMARY: The EPA is proposing to approve a revision to the North Carolina State Implementation Plan (SIP) that contains the transportation conformity memorandum of agreement with the Mecklenburg-Union Metropolitan Planning Organization and others. In the Final Rules Section of this Federal Register, the EPA is approving the State's SIP revision as a direct final rule without prior proposal because the Agency views this as a noncontroversial submittal and anticipates no adverse comments. A detailed rationale for the approval is set forth in the direct final rule. If no significant, material, and adverse comments are received in response to this rule, no further activity is contemplated. If EPA receives adverse comments, the direct final rule will be withdrawn and all public comments received will be addressed in a subsequent final rule based on this rule. The EPA will not institute a second comment period on this document. Any parties interested in commenting on this document should do so at this time.

DATES: Written comments must be received on or before October 15, 2003.

ADDRESSES: Comments may be submitted by mail to: Kelly Sheckler, Air Quality Modeling and Transportation Section, Air Planning Branch, Air, Pesticides and Toxics Management Division, U.S. Environmental Protection Agency, Region 4, 61 Forsyth Street, SW., Atlanta, Georgia 30303-8960. Comments may also be submitted electronically, or through hand delivery/courier. Please follow the detailed instructions described in the direct final rule, SUPPLEMENTARY INFORMATION (sections I.B.1.i. through iii.) which is published in the Rules Section of this Federal Register.

FOR FURTHER INFORMATION CONTACT: Kelly Sheckler, Air Quality Modeling and Transportation Section, Air Planning Branch, Air, Pesticides and Toxics Management Division, U.S. Environmental Protection Agency, Region 4, 61 Forsyth Street, SW., Atlanta, Georgia 30303-8960. The telephone number is (404) 562-9042. Ms. Sheckler can also be reached via electronic mail at sheckler.kelly@epa.gov.

SUPPLEMENTARY INFORMATION: For additional information see the direct final rule which is published in the Rules Section of this Federal Register.

Dated: August 28, 2003.
A. Stanley Meiburg,
Acting Regional Administrator, Region 4.

[FR Doc. 03-23267 Filed 9-12-03; 8:45 am]

BILLING CODE 6560-50-P